DEPARTMENT OF COMMERCE

National Oceanic and Atmospheric Administration

RIN 0648-XF226

Gulf of Mexico Fishery Management Council; Public Meetings

AGENCY: National Marine Fisheries Service (NMFS), National Oceanic and Atmospheric Administration (NOAA), Commerce.

ACTION: Notice of public hearings and Webinar.

SUMMARY: The Gulf of Mexico Fishery Management Council (Council) will hold five public hearings and Webinar to solicit public comments on Draft Amendment 46; the Gray Triggerfish Rebuilding Plan.

DATES: The meetings and Webinar will convene Monday, March 6, 2017; starting at 6 p.m. and will adjourn on Wednesday, March 15, 2017, no later than 9 p.m., to view the agenda see SUPPLEMENTARY INFORMATION.

ADDRESSES: The public hearings will be held in Destin and St. Petersburg, FL, Corpus Christi and Galveston, TX, and Spanish Fort, AL.

Council address: Gulf of Mexico Fishery Management Council, 2203 N. Lois Avenue, Suite 1100, Tampa, FL 33607; (813) 348-1630 or on their Web site, at www.gulfcouncil.org.

Public comments: Written comments must be received on Tuesday, February 28, 2017, before 5 p.m. Comments may also be submitted online through the Council's public portal by visiting www.gulfcouncil.org and clicking on “CONTACT US”.

FOR FURTHER INFORMATION CONTACT: Douglas Gregory, Executive Director, Gulf of Mexico Fishery Management Council; telephone: (813) 348-1630.

SUPPLEMENTARY INFORMATION:

Agenda

The agenda for the following five hearings and Webinar are as follows: Council staff will brief the public on the results of the gray triggerfish stock assessment and rebuilding status. Council staff will also provide an overview of the actions and alternatives considered in the amendment including the Council preferred alternatives. The Council is currently considering modifications to: The rebuilding time period, commercial and recreational annual catch limits (ACLs) and annual catch targets (ACTs), recreational management measures including modifications to the fixed closed seasons, and bag limit and minimum size limits. The Council is also considering modifying the commercial trip limit while maintaining the current fixed closed season of June 1, 2017 through July 31, 2017. Staff and a Council member will be available to answer any questions and the public will have the opportunity to provide testimony on the amendment and other related testimony.

The schedule is as follows:

Locations

Monday, March 6, 2017; Hilton Garden Inn, 6717 S. Padre Island Drive, Corpus Christi, TX 78412; telephone: (361) 991-8200; Five Rivers Delta Resource Center, 30945 Five Rivers Boulevard, Spanish Fort, AL 36527; telephone: (251) 625-0814.

Tuesday, March 7, 2017; Destin Community Center, 101 Stahlman Ave, Destin, FL 32541; telephone: (850) 654-5184; Courtyard by Marriott, 9550 Seawall Boulevard, Galveston, TX 77554; telephone: (409) 497-2850.

Thursday, March 9, 2017; Hilton St. Petersburg Carillon Park, 950 Lake Carillon Drive, St. Petersburg, FL 33716; telephone: (727) 540-0050.

Wednesday, March 15, 2017, Webinar will convene at 6 p.m., at https://attendee.gotowebinar.com/register/2003305067287307265.

After registering, you will receive a confirmation email containing information about joining the Webinar.

Special Accommodations

These meetings are physically accessible to people with disabilities. Requests for sign language interpretation or other auxiliary aids should be directed to Kathy Pereira (see ADDRESSES), at least 5 business days prior to the meeting date.

Note: The times and sequence specified in this agenda are subject to change.

Authority: 16 U.S.C. 1801 et seq.

Dated: February 13, 2017.
Tracey L. Thompson,
Acting Director, Office of Sustainable Fisheries, National Marine Fisheries Service.

[FR Doc. 2017-03119 Filed 2-15-17; 8:45 am]

BILLING CODE 3510-22-P